DEPARTMENT OF TRANSPORTATION

Federal Transit Administration

Notice of Meeting of the Transit Rail Advisory Committee for Safety (TRACS)

AGENCY: Federal Transit Administration, DOT.

ACTION: Notice of meeting.

SUMMARY: This notice announces a public meeting of the Transit Rail Advisory Committee for Safety (TRACS). TRACS is a Federal Advisory Committee established by the Secretary of the Department of Transportation in accordance with the Federal Advisory Committee Act to provide information, advice, and recommendations to the Secretary and the Federal Transit Administrator on matters relating to the safety of public transportation systems.

DATES: The TRACS meeting will be held on September 9, 2010 from 9 a.m. EDT to 5 p.m. EDT, and September 10, 2010, from 8 a.m. EDT to 12:15 p.m. EDT.

ADDRESSES: The meeting will be held at the Renaissance Washington DC, Downtown Hotel, 999 9th Street, NW., Washington, DC 20001.

SUPPLEMENTARY INFORMATION: This notice is provided in accordance with the Federal Advisory Committee Act (Pub. L. 92-463, 5 U.S.C. App. 2). TRACS is a Federal Advisory Committee established to provide information, advice, and recommendations to the Secretary of Transportation and the Administrator of the Federal Transit Administration (FTA) on matters pertaining to the safety of public transportation systems. TRACS is composed of 21 members representing a broad base of expertise necessary to discharge its responsibilities.

The TRACS members are:

William Bates, United Transportation Union

Bernadette Bridges, Maryland Transit Administration

Eric Cheng, Utah Department of Transportation

Richard W. Clark, California Public Utilities Commission

Diane Davidson, Oak Ridge National Laboratory

Joe Diaz, Hilsborough Area Regional Transit Authority

James M. Dougherty, Washington Metropolitan Area Transit Authority

David Genova, Regional Transportation District

Georgetta Gregory, Metropolitan Atlanta Transportation Rapid Transit Authority

William Grizard, American Public Transportation Association

Leonard Hardy, Bay Area Transit Authority

Henry Hartberg, Dallas Area Rapid Transit

Rick Inclima, Brotherhood of Maintenance of Way Employees Division

Jackie Jeter, Amalgamated Transit Union

Linda Kleinbaum, Metropolitan Transportation Authority

Amy S. Kovalan, Chicago Transit Authority

Richard Krisak, Metropolitan Atlanta Transportation Rapid Transit Authority

Tamara Lesh, Tri-County Metropolitan Transportation District

Pamela McCombe, Greater Cleveland Regional Transit Authority

Alvin H. Pearson, Memphis Area Transit Authority

Ed Watt, Transport Workers Union of America

The charter for TRACS requires the Administrator of FTA to appoint a Designated Federal Officer, a Chairperson and a Vice-Chair. On August 5, 2010, the FTA Administrator appointed Mike Flanigon, Director, Office of Safety and Security, FTA, as Chairperson and Eric Cheng, Utah Department of Transportation as Vice-Chair. In addition, the Designated Federal Officer for TRACS will be Sean Libberton, Deputy Associate Administrator, Office of Program Management, FTA.

The tentative agenda for the first meeting of TRACS is set forth below:

AGENDA

September 9-10, 2010

1. Facility Use Briefing.

2. Dignitaries' Welcome Remarks.

3. Introductions.

4. Discuss TRACS First Task(s).

5. Federal Advisory Committee Legal Framework; Finalize TRACS Mission, Operating Instructions, and Ground Rules.

6. Panel Presentations on Safety Plan Models.

7. Discuss State Safety Oversight and System Safety Approach.

8. Discuss Specific Inputs to be Considered Including TRACS Member Experience, NTSB Recommendation, and Accident/Incident Data.

9. Public Comments.

10. Develop Schedule, Work Plan and Establish Work Group(s) as Appropriate.

11. Set Next Meeting of Full TRACS.

12. Wrap Up.

This meeting will be open to the public. Members of the public who wish to make an oral statement at the meeting are directed to make a request to Iyon Rosario, Office of Safety and Security, Federal Transit Administration; (202) 366-2010; or at TRACS@dot.gov on or before close of business on September 3, 2010. Provisions will be made to include the scheduled oral statements on the agenda. Members of the public may submit written comments or suggestions concerning the activities of TRACS at any time before or after the meeting at TRACS@dot.gov; or to U.S. Department of Transportation, Federal Transit Administration, Office of Safety and Security, Room E43-435, 1200 New Jersey Avenue, SE., Washington, DC 20590, Attention: Iyon Rosario.

Requests for special accommodations should be directed to Iyon Rosario, Office of Safety and Security, Federal Transit Administration; (202) 366-2010; or at TRACS@dot.gov on or before close of business on September 6, 2010.

Minutes of the meeting will be posted on FTA's public Web site at http://www.fta.dot.gov/11039_11098.htm. Written comments submitted to the Committee will also be posted at the above Web address.

FOR FURTHER INFORMATION CONTACT: Iyon Rosario, Office of Safety and Security, Federal Transit Administration, Room E43-435, 1200 New Jersey Avenue, SE., Washington, DC 20590; (202) 366-2010; TRACS@dot.gov.

Issued on August 16, 2010.
Peter Rogoff,
Administrator.

[FR Doc. 2010-20641 Filed 8-19-10; 8:45 am]

BILLING CODE 4910-57-P